DEPARTMENT OF TRANSPORTATION

Federal Aviation Administration

Notice of Availability of a Draft Environmental Impact Statement for Implementation of Air Traffic Noise Abatement Procedures at T.F. Green Airport, Warwick, RI

AGENCY: Federal Aviation Administration, DOT.

ACTION: Notice of availability of a Draft Environmental Impact Statement.

SUMMARY: In accordance with Council on Environmental Quality's Regulations (Authority: 40 CFR 1500-1508) and FAA Order 1050.1D, Policies and Procedures for Considering Environmental Impacts, the Federal Aviation Administration (FAA) is making available the Draft Environmental Impact Statement (DEIS) for implementation of the proposed air traffic noise abatement procedures contained in the update of the Noise Compatibility Program for T.F. Green Airport in Warwick, RI.

DATES: Written comments will be accepted prior to April 26, 2000. A public hearing will be held on Wednesday, April 12, 2000, 7 p.m. to 9 p.m., Warwick, RI.

ADDRESSES: Address all written comments to Ms. Terry Flieger, Environmental Specialist, FAA, Air Traffic Division, 12 New England Executive Park, Burlington, MA 01803. Oral or written comments may also be given at the public hearing that will be held at the Veterans Memorial High School Auditorium/Cafeteria, 2401 West Shore Road, Warwick, RI.

FOR FURTHER INFORMATION CONTACT: Ms. Terry Flieger, 781-238-7524.

SUPPLEMENTARY INFORMATION: The FAA is making available the Draft Environmental Impact Statement (DEIS) for the following proposed action: the implementation of seven noise abatement departure procedures and one noise abatement arrival procedure including other associated noise compatibility program mitigation measures that were recommended in the T.F. Green Noise Compatibility Program Update. A Draft Environmental Impact Statement (DEIS) has been prepared and will be available for public review and comment. This document will be available 30 days prior to the April 12, 2000, hearing during normal business hours at the following locations:

T.F. Green Airport, 2000 Post Road, Warwick, RI 02886-1533

Warwick Town Hall, Clerk's Office, 3275 Post Road, Warwick, RI 02886

Cranston Town Hall, 869 Park Avenue, Cranston, RI 02910

Central Warwick Public Library, 600 Sandy Lane, Warwick, RI 02886

Apponaug Public Library, 3267 Post Road, Warwick, RI 02886

Cranston Public Library, 140 Socknest Cross Road, Cranston, RI 02920

Norwood Public Library, 328 Pawtuxet Avenue, Warwick, RI 02888

Conimicut Public Library, 55 Beach Avenue, Warwick, RI 02889

The purpose of the hearing is to consider the social, economic, and environmental effects of the proposed actions. During the hearing the public will be given an opportunity to present oral and/or written comments for the public record. This hearing is being held pursuant to the requirements of the National Environmental Policy Act of 1969 (Pub. L. 91-190) and other laws as applicable.

Dated: February 25, 2000.
William C. Yuknewicz,
Acting Manager, Air Traffic Division, FAA, New England Region.

[FR Doc. 00-5355 Filed 3-3-00; 8:45 am]

BILLING CODE 4910-13-M